DEPARTMENT OF AGRICULTURE

Forest Service

Directive Publication Notice

AGENCY: Forest Service, Agriculture (USDA).

ACTION: Notice.

SUMMARY: The Forest Service (Forest Service or Agency), U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months and notice of final directives issued in the last three months.

DATES: This notice identifies proposed and interim directives that will be published for public comment between July 1, 2023, and September 30, 2023; proposed and interim directives that were previously published for public comment but not yet finalized and issued; and final directives that have been issued since April 1, 2023.

ADDRESSES: Questions or comments may be submitted by email to the contact listed below.

FOR FURTHER INFORMATION CONTACT: JoLynn Anderson, 971-313-1718 or jolynn.anderson@usda.gov. Individuals who use telecommunications devices for the deaf and hard of hearing may call the Federal Relay Service at 800-877-8339 24 hours a day, every day of the year, including holidays. You may register to receive email alerts regarding Forest Service directives at https://www.fs.usda.gov/about-agency/regulations-policies.

SUPPLEMENTARY INFORMATION:

Proposed and Interim Directives

Consistent with 16 U.S.C. 1612(a) and 36 CFR part 216, the Forest Service publishes for public comment Agency directives that formulate standards, criteria, and guidelines applicable to Forest Service programs. Agency procedures for providing public notice and opportunity to comment are specified in Forest Service Handbook (FSH) 1109.12, chapter 30, Providing Public Notice and Opportunity to Comment on Directives.

The following proposed directives are planned for publication for public comment from July 1, 2023, to September 30, 2023:

1. Forest Service Manual (FSM) 2000, National Forest Resource Management, chapter 40, National Forest System Monitoring (previously published April 19, 2023 (88 FR 24147) as planned for publication for public comment).

2. FSM 2300, Recreation, Wilderness, and Related Resource Management, chapter 50, section 55, Climbing Management (previously published April 19, 2023 (88 FR 24147) as planned for publication for public comment).

The following proposed and interim directives have been published for public comment but have not yet been finalized:

1. FSM 2200, Rangeland Management, chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, chapters 10, Term Grazing Permits; 20, Grazing Agreements; 40, Livestock Use Permits; 50, Tribal Treaty Authorizations and Special Use Permits; and 90, Rangeland Management Decision Making; and FSH 2209.16, Allotment Management Handbook, chapter 10, Allotment Management and Administration.

2. FSM 3800, Landscape Scale Restoration Program.

3. FSH 2409.12, Timber Cruising Handbook, chapters 30, Cruising Systems; 40, Cruise Planning, Data Recording, and Cruise Reporting; 60, Quality Control; and 70, Designating Timber for Cutting; FSH 2409.15, Timber Sale Administration Handbook, chapters 20, Measuring and Accounting for Included Timber; 40, Rates and Payments; and 60, Operations and Other Provisions.

4. FSH 5509.11, Title Claims, Sales, and Grants Handbook, chapter 10, Title Claims and Encroachments.

Final Directives That Have Been Issued Since April 1, 2023

Final FSH 2209.13, Grazing Permit Administration Handbook, chapters 30, Temporary Grazing and Livestock Use Permits; 60, Records; and 70, Compensation for Permittee Interests in Rangeland Improvements, have been issued since April 1, 2023.

FSH 2209.13, chapters 30, 60, and 70, are the second batch of Grazing Permit Administration Handbook chapters being updated from a total of 17 chapters. Final FSH 2209.13, chapter 80, was issued March 6, 2023. The rangeland management directives in the FSM and FSH are being updated in batches to provide greater management flexibility and improve the clarity of policies and procedures guiding responsible and consistent management of grazing on National Forest System lands. The remaining chapters in FSM 2200, Rangeland Management, FSH 2209.13, and FSH 2209.16, Allotment Management Handbook, are being reviewed and will be published for public comment later.

The 60-day comment period for the proposed directives began December 18, 2020, closed February 16, 2021, and was extended for 60 days to April 17, 2021. The response to comments on all 17 proposed directives can be viewed at https://cara.fs2c.usda.gov/Public/ReadingRoom?project=ORMS-2514. Final chapters 30, 60, and 70 were issued June 30, 2023, and can be viewed at https://www.fs.usda.gov/im/directives/fsh/2209.13/wo_2209.13_30-Amend%202023-2.docx; https://www.fs.usda.gov/im/directives/fsh/2209.13/wo_2209.13_60-Amend%202023-3.docx; and https://www.fs.usda.gov/im/directives/fsh/2209.13/wo_2209.13_70-Amend%202023-4.docx.

Dated: August 4, 2023.
JoLynn Anderson,
Branch Chief, Directives, Information Collections and Government Clearance, Forest Service Policy Office.

[FR Doc. 2023-17071 Filed 8-8-23; 8:45 am]

BILLING CODE 3411-15-P